NUCLEAR REGULATORY COMMISSION

[NRC-2009-0339]

NUREG-1520, “Standard Review Plan for the Review of a License Application for a Fuel Cycle Facility”; Notice of Availability

AGENCY: Nuclear Regulatory Commission (NRC).

ACTION: Notice of availability.

SUMMARY: NRC is announcing the completion and availability of NUREG-1520, Revision 1, “Standard Review Plan for the Review of a License Application for a Fuel Cycle Facility,” dated May 2010.

ADDRESSES: NRC's Public Document Room (PDR): The public may examine and have copied, for a fee, publicly available documents at the NRC's PDR, Room O1 F21, One White Flint North, 11555 Rockville Pike, Rockville, Maryland 20852.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at (1-800) 397-4209, (301) 415-4737, or via e-mail to pdr.resource@nrc.gov. The Standard Review Plan (SRP) (NUREG-1520) is available electronically under ADAMS Accession Number ML1013901100.

FOR FURTHER INFORMATION CONTACT: Cinthya Román Cuevas, Chemical Engineer, Office of Nuclear Material Safety and Safeguards, U.S. Nuclear Regulatory Commission, Washington, DC 20555-0001, or by telephone at (301) 492-3224 or e-mail at cinthya.roman@nrc.gov.

SUPPLEMENTARY INFORMATION: The SRP for the review of a license application for a fuel cycle facility (NUREG-1520), Revision 1, provides NRC staff guidance for reviewing and evaluating the safety, health, and environmental protection aspects of applications for licenses to possess and use of Special Nuclear Materials to produce nuclear reactor fuel. The licensing guidance revision is also intended to provide information needed to better risk-inform the preoperational readiness reviews. Specifically, items, features, or aspects of the design identified during the licensing review as important, will be highlighted to verify compliance with specific commitments during the preoperational readiness reviews.

The SRP has been updated to improve and enhance the guidance by providing increased clarity and definition in specific areas of the licensing program and adding additional guidance in areas where information was lacking or not suitably addressed. This effort was focused on improving both the clarity, and also consistency, of the SRP, with the Agency positions that support compliance with current regulations. The changes do not involve any new staff positions rather existing guidance has been consolidated to ensure the quality and uniformity of staff safety reviews. In addition, this revision has been reformatted and reorganized to improve the consistency within the document.

On August 5, 2009 (74 FR 39117), NRC announced the availability of draft NUREG-1520, Revision 01 and requested comments on it. The comment period originally closed on September 21, 2009. In a second notice, dated August 19, 2009 (74 FR 41946), NRC extended the comment period to October 24, 2009. The NRC staff considered all of the comments, including constructive suggestions to improve the document, in the preparation of the final NUREG report. A matrix listing all the comments with staff responses on NUREG-1520 was made publicly available in ADAMS (ML092880360). The SRP was also transmitted to the Office of the General Counsel (OGC) to ensure that the updated SRP sections are consistent with current rules and authoritative statements of agency policy. No legal objection was identified by OGC.

The final version of NUREG-1520, Revision 1, is now available for use by applicants, licensees, NRC license reviewers, and other NRC staff. It supersedes the last official revision published on March 2002.

Dated at Rockville, Maryland this 24th day of May, 2010.
For the Nuclear Regulatory Commission.
Michael Tschiltz,
Deputy Director, Fuel Facility Licensing Directorate, Division of Fuel Cycle Safety and Safeguards, Office of Nuclear Material Safety and Safeguards.

[FR Doc. 2010-13151 Filed 6-1-10; 8:45 am]

BILLING CODE 7590-01-P